DEPARTMENT OF HEALTH AND HUMAN SERVICES

National Institutes of Health

Notice of Correction for National Institute of Neurological Disorders and Stroke, Interagency Pain Research Coordinating Committee Call for Committee Membership Nominations

The National Institutes of Health (NIH) is correcting a notice previously published in the Federal Register on December 15, 2014 (79 FR 74102) and titled “National Institute of Neurological Disorders and Stroke, Interagency Pain Research Coordinating Committee Call for Committee Membership Nominations.” The notice announced that The Department of Health and Human Services (HHS) is seeking nominations for the Interagency Pain Research Coordinating Committee.

NIH is amending the due date for nominations from January 5, 2015, as stated toward the end of the notice, to January 12, 2015. For further information about the meeting, please contact Linda Porter, Ph.D., porterl@ ninds.nih.gov.

Dated: December 16, 2014.
Walter J. Koroshetz,
Acting Director, National Institute of Neurological Disorders and Stroke, National Institutes of Health.

[FR Doc. 2014-30387 Filed 12-24-14; 8:45 am]

BILLING CODE 4140-01-P